DEPARTMENT OF ENERGY

Federal Energy Regulatory Commission

[Docket Nos. CP02-420-000, CP02-421-000, and CP02-422-000]

Red Lake Gas Storage, L.P.; Notice of Application

August 21, 2002.

On August 9, 2002, Red Lake Gas Storage, L.P. (Red Lake), located at 1100 Walnut Street, Suite 3300, Kansas City, Missouri, 64106, filed an application in the above referenced dockets, pursuant to Section 7(c) of the Natural Gas Act (NGA), and Parts 157 and 284 of the Federal Energy Regulatory Commission's (Commission) Rules and Regulations for: (1) A certificate of public convenience and necessity authorizing Red Lake to develop, construct, own, operate, maintain, and abandon a natural gas storage facility capable of delivering 900,000 Decatherms per day (Dth/d) and consisting of storage caverns and other associated and appurtenant facilities; (2) a blanket certificate pursuant to Part 284, Subpart G, authorizing Red Lake to provide storage and hub services on behalf of others; (3) a blanket certificate pursuant to part 157, subpart F, authorizing Red Lake to develop, construct, acquire, own, operate, maintain, and abandon additional facilities following construction of the facilities for which authorization is being sought under Part 157, Subpart A; (4) authorization to provide storage and hub services at market-based rates; and (5) a blanket sales certificate pursuant to Part 284, Subpart J to provide unbundled sales services for the limited purpose of disposing of gas that shippers may fail to remove or excess fuel gas from operations. This filing is available for review at the Commission in the Public Reference Room or may be viewed on the Commission's Web site at http://www.ferc.gov using the “FERRIS” link. Enter the docket number excluding the last three digits in the docket number field to access the document. For assistance, call (202) 502-8222 or for TTY, (202) 208-1659.

Red Lake further request approval of its FERC Gas Tariff contained in Exhibit P of the application. Red Lake also requests the Commission (1) waive the requirement pursuant to Part 284.7(e) that Red Lake charge reservation fees for firm service recovering fixed costs based on the straight fixed variable rate design methodology; (2) waive the requirements of 157.14 with respect to Exhibits K, L, N, and O; (3) waive the accounting and reporting requirements under Parts 201 and 260.2; (4) waive the requirement to provide total gas supply information, pursuant to 157.14(a)(10); and (5) waive all other regulations to the extent such waivers may be necessary to grant each of the authorizations in the application.

Red Lake requests the Commission grant confidential treatment for certain material contained in the application. Red Lake asks the Commission to issue a preliminary determination on the non-environmental aspects of the facility by December 18, 2002 and a final certificate as soon as possible thereafter, so that Red Lake would be able to commence with storage and hub services on November 1, 2003.

The storage facilities which Red Lake seeks to construct and operate will be located in Mohave County, Arizona. The facilities will consist of two high deliverability storage caverns, 31 miles of header pipeline, 33,000 horsepower compressor station, and appurtenant facilities. The facility will have approximately 900,000 Dth/d of deliverability, 450,000 Dth/d of injection capability, and a total working gas capacity of 12,000 MMcf. The facility will interconnect with the interstate pipelines of El Paso Natural Gas Company, Transwestern Pipeline Company, and Southern Trails Pipeline.

Red Lake proposes to provide firm and interruptible storage service pursuant to Part 284 of the Commission's regulations. Red Lake also requests authorization to provide storage and hub service at market-based rates. The open season, held by Red Lake's affiliate, Aquila Storage, resulted in non-binding precedent agreements for over 69% of the facility's storage capacity.

Any questions regarding this application should be directed to Mark D. Cook, Red Lake Gas Storage, L.P., 909 Fannin, Suite 1850, Houston, Texas 77010, phone: (713) 336-7423, fax: (713) 336-7403.

There are two ways to become involved in the Commission's review of this project. First, any person wishing to obtain legal status by becoming a party to the proceedings for this project should, on or before September 11, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link. The Commission strongly encourages electronic filings.

If the Commission decides to set the application for a formal hearing before an Administrative Law Judge, the Commission will issue another notice describing that process. At the end of the Commission's review process, a final Commission order approving or denying a certificate will be issued.

Linwood A. Watson, Jr.,
Deputy Secretary.

[FR Doc. 02-21844 Filed 8-27-02; 8:45 am]

BILLING CODE 6717-01-P